DEPARTMENT OF ENERGY

Environmental Management Site-Specific Advisory Board, Oak Ridge

AGENCY: Office of Environmental Management, Department of Energy.

ACTION: Notice of open meeting.

SUMMARY: This notice announces a meeting of the Environmental Management Site-Specific Advisory Board (EM SSAB), Oak Ridge. The Federal Advisory Committee Act requires that public notice of this meeting be announced in the Federal Register.

DATES: Saturday, August 24, 2019 9:00 a.m.

ADDRESSES: Tremont Lodge, 7726 E Lamar Alexander Parkway, Townsend, Tennessee 37882.

FOR FURTHER INFORMATION CONTACT: Melyssa P. Noe, Alternate Deputy Designated Federal Officer, U.S. Department of Energy, Oak Ridge Office of Environmental Management (OREM), P.O. Box 2001, EM-942, Oak Ridge, TN 37831. Phone (865) 241-3315; Fax (865) 241-6932; Email: Melyssa.Noe@orem.doe.gov. Or visit the website at https://energy.gov/orem/services/community-engagement/oak-ridge-site-specific-advisory-board.

SUPPLEMENTARY INFORMATION:

Purpose of the Board: The purpose of the Board is to make recommendations to DOE-EM and site management in the areas of environmental restoration, waste management, and related activities.

Tentative Agenda:

• Welcome and Introductions

• Presentation: OREM Program Overview and Updates

• Work Plan Topics: Presentations by DOE, Tennessee Department of Environment and Conservation, and Environmental Protection Agency Liaisons

• Process and Plan for Issue Group Sign-up

• Break

• Public Comment Period

• Board Review of Fiscal Year (FY) 2018: Mission and Accomplishments, and Results of Member Survey

• Board Business:

○ Recommendations from the EM SSAB Chairs Meeting

○ Approval of June 12, 2019 Meeting Minutes

○ Recommendations on FY21 OREM Budget Priorities

○ Voting on Candidates for FY20 Officers

• Remarks: End of Day Meeting Evaluation

• Lunch Break

• Follow-on Discussion

• Adjourn

Public Participation: The meeting is open to the public. The EM SSAB, Oak Ridge, welcomes the attendance of the public at its advisory committee meetings and will make every effort to accommodate persons with physical disabilities or special needs. If you require special accommodations due to a disability, please contact Melyssa P. Noe at least seven days in advance of the meeting at the phone number listed above. Written statements may be filed with the Board either before or after the meeting. Individuals who wish to make oral statements pertaining to the agenda item should contact Melyssa P. Noe at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Melyssa P. Noe at the address and phone number listed above. Minutes will also be available at the following website: https://energy.gov/orem/listings/oak-ridge-site-specific-advisory-board-meetings.

Signed in Washington, DC, on July 23, 2019.
LaTanya Butler,
Deputy Committee Management Officer.

[FR Doc. 2019-16009 Filed 7-26-19; 8:45 am]

BILLING CODE 6450-01-P